DEPARTMENT OF ENERGY

Federal Energy Regulatory Commission

[Docket No. ER09-1514-000]

New York Independent System Operator; Notice of FERC Staff Attendance

August 25, 2009.

The Federal Energy Regulatory Commission (Commission) hereby gives notice that on September 3, 2009 at 11 a.m. (EST) and/or Wednesday, September 9, 2009 at 2 p.m. (EST) members of its staff will participate in WebEx Training sessions to review the enhancements associated with the transactions aspect of the NYISO Energy Market, specifically, Trading Hubs. Information on the training sessions is available on the NYISO's Web site at https://nyiso.webex.com. Sponsored by the NYISO, the training sessions are open to all market participants, and staff's attendance is part of the Commission's ongoing outreach efforts. The training sessions may include discussions relating to matters at issue in the above captioned proceeding. For further information, contact Connie Caldwell at connie.caldwell@ferc.gov; (202) 502-6489 or Jeffrey Honeycutt at jeffrey.honeycutt@ferc.gov; (202) 502-6505.

Kimberly D. Bose,
Secretary.

[FR Doc. E9-20942 Filed 8-28-09; 8:45 am]

BILLING CODE 6717-01-P